DEPARTMENT OF HOUSING AND URBAN DEVELOPMENT

[Docket No. FR-7107-N-02 OMB Control No.: 2577-0301]

30-Day Notice of Proposed Information Collection: Capital Fund High Risk/Receivership/Substandard/Troubled Program

AGENCY: Office of Policy Development and Research, Chief Data Officer, HUD.

ACTION: Notice.

SUMMARY: HUD is seeking approval from the Office of Management and Budget (OMB) for the information collection described below. In accordance with the Paperwork Reduction Act, HUD is requesting comments from all interested parties on the proposed collection of information. The purpose of this notice is to allow for 30 days of public comment.

DATES: Comments Due Date: March 2, 2026.

ADDRESSES: Interested persons are invited to submit comments regarding this proposal. Written comments and recommendations for the proposed information collection should be sent within 30 days of publication of this notice to www.reginfo.gov/public/do/PRAMain. Find this particular information collection by selecting “Currently under 30-day Review—Open for Public Comments” or by using the search function.

FOR FURTHER INFORMATION CONTACT: John L. Murphy, PRA Compliance Officer, Paperwork Reduction Act Division, PRAD, Department of Housing and Urban Development, 451 7th Street SW, Room 8220, Washington, DC 20410; email at PaperworkReductionActOffice@hud.gov, ATTN: John L. Murphy telephone (202) 402-8084. This is not a toll-free number. HUD welcomes and is prepared to receive calls om individuals who are deaf or hard of hearing, as well as individuals with speech or communication disabilities. To learn more about how to make an accessible telephone call, please visit https://www.fcc.gov/consumers/guides/telecommunications-relay-service-trs. Copies of available documents submitted to OMB may be obtained from Dr. Murphy.

SUPPLEMENTARY INFORMATION: This notice informs the public that HUD is seeking approval from OMB for the information collection described in Section A. The Federal Register notice that solicited public comment on the information collection for a period of 60 days was published on June 26, 2025 at 90 FR 27333.

A. Overview of Information Collection

Title of Information Collection: Capitol Fund High Risk/Receivership/Substandard/Troubled Program.

OMB Approval Number: 2577-0301.

Type of Request: Renewal of Approved Collection.

Form Number: Annual SF-425, Federal Financial Report; Annual SF-425, Federal Financial Report; SF-1199A; SF-1199A, Direct Deposit Sign-up; SF-1199A, HUD Form 53001, Actual Modernization Cost, Review of Final Narrative (Post-award reports).

Description of the need for the information and proposed use: This supporting statement renews the post-award information collection for competitive awards under the Capital Fund Program. Post-award information includes annual financial and performance reporting, audits, and award closeout. Reporting also includes compliance with the Award Term in Appendix A of 2 CFR part 170. Grantees must also adhere to the application submission requirements in the NOFO, including implementing the project proposed with the application, including how use of funding will improve the targeted Asset Management Property (AMP). Further, grantees are required to maintain eligibility for the life of the award, including all program specific threshold eligibility requirements.

The pre-award information collection for the Capital Fund Program is removed from this control number and may be moved to OMB Control Number2501-0044. The Capital Fund Program provides funding for costs associated with public housing asset improvement to Public Housing Agencies (PHAs) that are either in receivership, designated troubled or substandard, or otherwise deemed high risk. Funding is focused on improving public housing asset management property performance in two core areas: Physical Condition and Occupancy.

Information collection | Number of respondents | Frequency of response per respondents | Total annual responses | Burden hour per response | Annual burden hours | Hourly cost per response | Annual cost
Annual SF-425, Project Performance and Other Annual Reporting | 5 | 4 | 20 | 1 | 5 | 55.15 | 275.75
SF-1199A | 5 | 1 | 5 | 1 | 5 | 55.15 | 275.75
Closeout and Final Narrative | 5 | 1 | 5 | 2 | 10 | 55.15 | 551.50
Record Retention | 5 | 4 | 20 | 5 | 5 | 55.15 | 275.75
Totals | 15 |  | 45 |  | 20 |  | 1,378.75

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 2 of the Paperwork Reduction Act of 1995, 44 U.S.C. 3507.

John L. Murphy,
Compliance Officer, Department PRA Compliance Officer, Office of Policy Development and Research, Chief Data Office.

[FR Doc. 2026-01880 Filed 1-29-26; 8:45 am]

BILLING CODE 4210-67-P